DEPARTMENT OF TRANSPORTATION

Coast Guard

[USCG 2001-9938]

Merchant Marine Personnel Advisory Committee; Vacancies

AGENCY: Coast Guard, DOT.

ACTION: Request for applications.

SUMMARY: The Coast Guard is seeking applications for appointment to membership on the Merchant Marine Personnel Advisory Committee (MERPAC). MERPAC provides advice and makes recommendations to the Coast Guard on matters related to the training, qualification, licensing, certification, and fitness of seamen serving in the U.S. merchant marine.

DATES: Applications should reach us on or before August 31, 2001.

ADDRESSES: You may request an application form by writing to Commandant (G-MSO-1), U.S. Coast Guard, 2100 Second Street SW., Washington, DC 20593-0001. Please submit applications to the same address.

FOR FURTHER INFORMATION CONTACT: Commander Brian J. Peter, Executive Director of MERPAC, or Mr. Mark C. Gould, Assistant to the Executive Director, telephone 202-267-0229, fax 202-267-4570.

SUPPLEMENTARY INFORMATION: This notice is available on the Internet at http://dms.dot.gov. The application form is available on the Internet at http://www.uscg.mil/hg/g-m/advisory/index.htm. You may also obtain an application by calling Mr. Mark Gould at (202) 267-0229; by e-mailing him at mgould@comdt.uscg.mil; by faxing him at (202) 267-4570; or by writing him at the location in ADDRESSES above.

MERPAC is chartered under the Federal Advisory Committee Act, 5 U.S.C. App. 2. It provides advice and makes recommendations to the Assistant Commandant for Marine Safety and Environmental Protection, on matters of concern to seamen serving in our merchant marine such as implementation of the international Convention on Standards of Training, Certification and Watchkeeping for Seafarers, 1978 (STCW), as amended and activities of regional examination centers.

MERPAC meets at least twice a year, once at Coast Guard Headquarters, Washington, DC, and once elsewhere in the country. Its subcommittees and working groups may also meet to consider specific tasks as required.

The Coast Guard will consider applications for six positions that expire or become vacant in January 2002. It needs applicants with one or more of the following backgrounds to fill the positions:

(a) Licensed Deck Officer.

(b) Managerial employee of a shipping company.

(c) Licensed Engineer.

(d) Unlicensed Member of the Deck Department.

(e) Marine Educator associated with a Federal or State maritime academy.

(f) Pilot.

Each member serves for a term of 3 years. No member may serve more than two consecutive 3-year terms. MERPAC members serve without compensation from the Federal Government; however, they do receive travel reimbursement and per diem.

In support of the policy of the Department of Transportation on gender and ethnic diversity, the Coast Guard encourages applications from qualified women and members of minority groups.

If you are selected as a member who represents the general public, we will require you to complete a Confidential Financial Disclosure Report (OGE Form 450). Neither the report nor the information it contains may be released to the public, except under an order issued by a Federal court or as otherwise provided under the Privacy Act [5 U.S.C. 552a].

Dated: June 12, 2001.
Joseph J. Angelo,
Director of Standards, Marine Safety and Environmental Protection.

[FR Doc. 01-15660 Filed 6-21-01; 8:45 am]

BILLING CODE 4910-15-P